DEPARTMENT OF AGRICULTURE

Animal and Plant Health Inspection Service

[Docket No. 98-103-3]

Importation of Artificially Dwarfed Plants in Growing Media From the People's Republic of China; Availability of an Environmental Assessment and Request for Comments

AGENCY: Animal and Plant Health Inspection Service, USDA.

ACTION: Notice of availability and request for comments.

SUMMARY: We are informing the public that the Animal and Plant Health Inspection Service has prepared an environmental assessment for a proposal to allow the importation of specific species of artificially dwarfed (penjing) plants of the genera Buxus, Ehretia (Carmona), Podocarpus, Sageretia, and Serissa to be imported into the United States from the People's Republic of China in an approved growing medium subject to specified growing, inspection, and certification requirements. The environmental assessment documents our review and analysis of environmental impacts associated with the proposed action. We are making this environmental assessment available to the public for review and comment.

DATES: We will consider all comments that we receive on or before October 15, 2003.

ADDRESSES: You may submit comments by postal mail/commercial delivery or by e-mail. If you use postal mail/commercial delivery, please send four copies of your comment (an original and three copies) to: Docket No. 98-103-3, Regulatory Analysis and Development, PPD, APHIS, Station 3C71, 4700 River Road Unit 118, Riverdale, MD 20737-1238. Please state that your comment refers to Docket No. 98-103-3. If you use e-mail, address your comment to regulations@aphis.usda.gov. Your comment must be contained in the body of your message; do not send attached files. Please include your name and address in your message and “Docket No. 98-103-3” on the subject line.

You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. William Thomas, Import Specialist, Phytosanitary Issues Management, PPQ, APHIS, 4700 River Road Unit 140, Riverdale, MD 20737-1236; (301) 734-6799.

SUPPLEMENTARY INFORMATION:

Background

The Animal and Plant Health Inspection Service (APHIS) of the United States Department of Agriculture regulates the importation of plants and plant parts into the United States to guard against the introduction of plant pests and noxious weeds into the United States.

The regulations pertaining to the importation of plants and plant parts are set forth in the Code of Federal Regulations (CFR), title 7, chapter III.

On September 20, 2000, we published in the Federal Register (65 FR 56803-56806, Docket No. 98-103-1) a proposal to amend the regulations to allow artificially dwarfed plants of the genera Buxus, Ehretia (Carmona), Podocarpus, Sageretia, and Serissa to be imported into the United States from the People's Republic of China in an approved growing medium subject to specified growing, inspection, and certification requirements. We accepted comments on our proposal for a total of 90 days, ending December 20, 2000.¹

¹ The comment period on the proposed rule was extended from 60 to 90 days in a notice published in the Federal Register on December 1, 2000 (65 FR 75187, Docket No. 98-103-2).

In response to comments received on the proposed rule, APHIS has revised the pest risk assessments, created a risk mitigation document, and narrowed the application of the rule to apply to particular species of the genera mentioned previously. The five revised pest risk assessments as well as the risk mitigation document are available on the Internet at http://www.aphis.usda.gov/ppq/pim. We have also concluded section 7 consultation with the U.S. Fish and Wildlife Service (FWS) to assess the potential effects of the proposed action on endangered or threatened species, as required under the Endangered Species Act. On April 10, 2003, FWS concluded the section 7 consultation process by concurring with APHIS’ determination that the importation of Buxus sinica, Ehretia microphylla, Podocarpus macrophyllus, Sageretia thea, and Serissa foetida from the People's Republic of China will not adversely affect federally listed or proposed endangered or threatened species or their habitats.

Upon receiving FWS concurrence and after preparing the revised pest risk assessments and the pest mitigation document, APHIS prepared an environmental assessment in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

This notice announces the availability of the environmental assessment for public review and comment. The assessment, titled “Final Rule for the Importation of Artificially Dwarfed Plants in Growing Media From the People's Republic of China” and dated September 2003, is available on the Internet at http://www.aphis.usda.gov/ppd/es/ppqdocs.html. You may request paper copies of the environmental assessment from the person listed under FOR FURTHER INFORMATION CONTACT. Please refer to the title of the assessment when requesting copies.

The environmental assessment is also available for review in our reading room (the location and the hours of the reading room are listed under the heading ADDRESSES at the beginning of this notice).

Done in Washington, DC, this 11th day of September 2003.
Bobby R. Acord,
Administrator, Animal and Plant Health Inspection Service.

[FR Doc. 03-23545 Filed 9-12-03; 8:45 am]

BILLING CODE 3410-34-P